DEPARTMENT OF HEALTH AND HUMAN SERVICES

National Institutes of Health

Eunice Kennedy Shriver National Institute of Child Health & Human Development; Amended Notice of Meeting

Notice is hereby given of a change in the meeting of the Pediatrics Subcommittee, October 18, 2019, 8:30 a.m. to October 18, 2019, 5:00 p.m., Residence Inn Bethesda, 7335 Wisconsin Avenue, Bethesda, MD, 20814 which was published in the Federal Register on July 22, 2019, 84 FR 35122.

This meeting's date has changed from October 18, 2019, 8:30 a.m. to 5:00 p.m. to October 17, 2019, 8:30 a.m. to 5:00 p.m. and October 18, 2019 8:30 a.m. to 5:00 p.m.

Dated: August 23, 2019.
Ronald J. Livingston, Jr.,
Program Analyst, Office of Federal Advisory Committee Policy.

[FR Doc. 2019-18546 Filed 8-27-19; 8:45 am]

BILLING CODE 4140-01-P